DEPARTMENT OF THE INTERIOR

Fish and Wildlife Service

Tallahatchie, Dahomey, and Coldwater River National Wildlife Refuges

AGENCY: Fish and Wildlife Service, Interior.

ACTION: Notice of intent to prepare a Comprehensive Conservation Plan and Environmental Assessment for Tallahatchie, Dahomey, and Coldwater River National Wildlife Refuges, located in the State of Mississippi.

SUMMARY: The Fish and Wildlife Service, Southeast Region, intends to gather information necessary to prepare a comprehensive conservation plan and environmental assessment pursuant to the National Environmental Policy Act and its implementing regulations. The Service is furnishing this notice in compliance with the National Wildlife Refuge System Administration Act of 1966, as amended (16 U.S.C. 668dd et seq.), to achieve the following:

(1) Advise our agencies and the public of our intentions, and

(2) Obtain suggestions and information on the scope of issues to include in the environmental document.

Special mailings, newspaper articles, and other media announcements will be used to inform the public and state and local government agencies of the opportunities for input throughout the planning process.

ADDRESSES: Address comments, questions, and requests for more information to Stephen W. Gard, Project Leader, North Mississippi National Wildlife Refuge Complex, 2776 Sunset Drive, P.O. Box 1070, Grenada, Mississippi 38901; Telephone: 662/226-8286; Fax: 662/226-8488; E-mail: FWR4RWNorthMSRefuges@fws.gov.

SUPPLEMENTARY INFORMATION: By Federal law, all lands within the National Wildlife Refuge System are to be managed in accordance with an approved comprehensive conservation plan. The plan guides management decisions and identifies refuge goals, long-range objectives, and strategies for achieving refuge purposes. The planning process will consider many elements including wildlife and habitat management, public recreational activities, and cultural resource protection. Public input in the planning process is essential as the Service establishes management priorities and explores opportunities for non-invasive and low-impact activities.

Tallahatchie National Wildlife Refuge, established in 1990, is located in Grenada and Tallahatchie Counties, Mississippi. It consists of 4,083 acres and is managed primarily to provide habitat for migratory waterfowl. Refuge objectives are to create a woodland corridor along Tippo Bayou for migratory neotropical songbirds, convert marginal agricultural land to hardwood forests, and provide fallow field habitat for wintering grassland birds.

Dahomey National Wildlife Refuge, also established in 1990, is located in Bolivar County, Mississippi. It consists of 9,691 acres, and is the largest remaining tract of bottomland hardwood forested wetlands in the northwest portion of Mississippi. Objectives are to provide habitat for migratory waterfowl and other migratory birds, and to provide recreational use and environmental education to the public.

Coldwater River National Wildlife Refuge, established in 1991, is located in Tallahatchie and Quitman Counties, Mississippi. It consists of 2,202 acres, much of which is inaccessible during the winter months due to backwater flooding of the Tallahatchie River. Objectives are to provide habitat for migratory waterfowl, shorebirds, and wading birds; convert marginal agricultural land to hardwood forests; and provide fallow field habitat for wintering grassland birds.

Authority: This notice is published under the authority of the National Wildlife Refuge System Improvement Act of 1997, Pub. L. 105-57.

Dated: November 14, 2003.
J. Mitch King,
Acting Regional Director.

[FR Doc. 03-31165 Filed 12-17-03; 8:45 am]

BILLING CODE 4310-55-M